NATIONAL SCIENCE FOUNDATION

Notice of Permit Applications Received Under the Antarctic Conservation Act of 1978 (Pub. L. 95-541)

AGENCY: National Science Foundation.

ACTION: Notice of Permit Applications Received Under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 2, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

The applications received are as follows:

1. Applicant: Diana Wall, Colorado State University, Fort Collins, CO 80523-1499. Permit Application No. 2008-031.

Activity for Which Permit Is Requested: Enter Antarctic Specially Protected Areas. The applicant plans to enter Cape Crozier (ASPA #124), and Cape Royds (ASPA #121) to collect soil invertebrates (nematodes). Samples were collected previously from these locations; however, molecular data on nematodes from these soils is lacking. Samples are needed to determine if there is a genetic variation in the population that is indiscernible from previously collected data.

Location: Cape Crozier (ASPA #124), Cape Royds (ASPA #121), and Cape Bird, Ross Island.

Dates: January 14, 2008 to February 15, 2008.

Nadene G. Kennedy,
Permit Officer, Office of Polar Programs.

[FR Doc. E7-23326 Filed 11-30-07; 8:45 am]

BILLING CODE 7555-01-P